DEPARTMENT OF STATE

[Public Notice 8789]

U.S. Department of State Advisory Committee on Private International Law (ACPIL): Public Meeting on Conciliated Settlement Agreements

The Office of the Assistant Legal Adviser for Private International Law, Department of State, gives notice of a public meeting to discuss possible work related to international commercial conciliation in the United Nations Commission on International Trade Law (UNCITRAL). The public meeting will take place on Thursday, July 31, 2014 from 9:00 a.m. until 12 p.m. EDT. This is not a meeting of the full Advisory Committee.

At its July 2014 session, UNCITRAL will be deciding what projects, if any, its Working Group II (Arbitration and Conciliation) should begin at its fall 2014 meeting. The United States has proposed that the Working Group develop a convention on the enforcement of conciliated settlement agreements that resolve international commercial disputes. See A/CN.9/822, available at http://www.uncitral.org/uncitral/commission/sessions/47th.html. UNCITRAL may or may not decide to develop such a convention.

The purpose of the public meeting is to obtain the views of concerned stakeholders on what any such convention should provide and how the various issues identified in the proposal should be addressed. Those who cannot attend but wish to comment are welcome to do so by email to Tim Schnabel at SchnabelTR@state.gov.

Time and Place: The meeting will take place from 9:00 a.m. until 12:00 p.m. in Room 4835, Harry S Truman Building, 2201 C Street NW., Washington, DC 20520. Participants should plan to arrive at the C Street entrance by 8:30 a.m. for visitor screening. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than July 24, 2014. Requests made after that date will be considered, but might not be able to be fulfilled. If you would like to participate by telephone, please email pil@state.gov to obtain the call-in number and other information.

If UNCITRAL does not decide to commence work on this project, this public meeting will not be held; those who have communicated their intent to attend will be notified if the meeting is cancelled.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: June 27, 2014.
Timothy R. Schnabel,
Attorney-Adviser, Office of Private International Law, Office of Legal Adviser, Department of State.

[FR Doc. 2014-15940 Filed 7-7-14; 8:45 am]

BILLING CODE 4710-08-P